DEPARTMENT OF DEFENSE

Department of the Army

[Docket ID: USA-2016-HQ-0023]

Privacy Act of 1974; System of Records

AGENCY: Department of the Army, DoD.

ACTION: Notice to alter a System of Records.

SUMMARY: The Department of the Army proposes to alter a system of records notice AAFES 0403.01, entitled “Application for Employment Files” in its existing inventory of records systems subject to the Privacy Act of 1974, as amended. This system is used in considering individuals who have applied for positions in the Army and Air Force Exchange Service by making determinations of qualifications including medical qualifications, for positions applied for, and to rate and rank applicants applying for the same or similar positions.

DATES: Comments will be accepted on or before July 18, 2016. This proposed action will be effective on the date following the end of the comment period unless comments are received which result in a contrary determination.

ADDRESSES: You may submit comments, identified by docket number and title, by any of the following methods:

• Federal Rulemaking Portal: http://www.regulations.gov. Follow the instructions for submitting comments.

• Mail: Department of Defense, Office of the Deputy Chief Management Officer, Directorate for Oversight and Compliance, 4800 Mark Center Drive, Mailbox #24, Alexandria, VA 22350-1700.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Tracy Rogers, Department of the Army, Privacy Office, U.S. Army Records Management and Declassification Agency, 7701 Telegraph Road, Casey Building, Suite 144, Alexandria, VA 22325-3905; telephone (703) 428-6185.

SUPPLEMENTARY INFORMATION: The Department of the Army's notices for systems of records subject to the Privacy Act of 1974 (5 U.S.C. 552a), as amended, have been published in the Federal Register and are available from the address in FOR FURTHER INFORMATION CONTACT or from the Defense Privacy and Civil Liberties Division Web site at http://dpcld.defense.gov/.

The proposed systems reports, as required by 5 U.S.C. 552a(r) of the Privacy Act, as amended, were submitted on May 27, 2016, to the House Committee on Oversight and Government Reform, the Senate Committee on Homeland Security and Governmental Affairs, and the Office of Management and Budget (OMB) pursuant to paragraph 4 of Appendix I to OMB Circular No. A-130, “Federal Agency Responsibilities for Maintaining Records About Individuals,” revised November 28, 2000 (December 12, 2000 65 FR 77677).

Dated: June 14, 2016.
Aaron Siegel,
Alternate OSD Federal Register Liaison Officer, Department of Defense.

AAFES 0403.01

System name:

Application for Employment Files (August 9, 1996, 61 FR 41574).

Changes:

* * * * *

System location:

Delete entry and replace with “Headquarters, Army and Air Force Exchange Service, 3911 S. Walton Walker Boulevard, Dallas, TX 75236-1598.

Segments of the system exist at servicing civilian personnel offices at Exchange U.S. Operations Offices, and post/base exchanges worldwide. Official mailing addresses are published as an appendix to the Army's compilation of systems of records notices.”

Categories of individuals covered by the system:

Delete entry and replace with “Individuals who have applied for employment with the Army and Air Force Exchange Service (Exchange).”

Categories of records in the system:

Delete entry and replace with “Records may vary depending on: The applicant's nationality/citizenship; job location, including jobs outside of the United States; and/or host nation employment information requirements, if applicable.

Files may contain the individual's name, Social Security Number (SSN), Taxpayer Identification Number (ITIN), National ID Card, Passport/Visa information, names of relatives who work for the Exchange, parent's names, spouse's names, foreign languages spoken, Exchange location, home address, date and place of birth, date of hire, citizenship including race and/or ethnicity, marital status, sex, security clearance, military status, notification from the Exchange concerning selection/non-selection, sponsor affiliation where employee is a dependent of a U.S. Government/military member, vehicle license numbers, physical examination documents, medical history, education history, employment history and experience, work licenses, career plans, personnel evaluation reports, job recommendations and character references, awards, training course data, driving history and criminal history.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

Authority for maintenance of the system:

Delete entry and replace with “Title 10 U.S.C. 3013, Secretary of the Army; Title 10 U.S.C. 8013, Secretary of the Air Force; Army Regulation 215-3, Morale, Welfare, and Recreation Nonappropriated Funds Instrumentalities Personnel Policy; Army Regulation 215-8/AFI 34-211(I), Army and Air Force Exchange Service Operations; and E.O. 9397 (SSN), as amended.”

* * * * *

Routine uses of records maintained in the system, including categories of users and the purposes of such uses:

Delete entry and replace with “In addition to those disclosures generally permitted under 5 U.S.C. 552a(b) of the Privacy Act, these records or information contained therein may specifically be disclosed outside the DoD as a routine use pursuant to 5 U.S.C. 552a(b)(3) as follows:

To the Treasury Department to issue bonds; to collect and record income taxes.

To former spouses, who receive payments under Title 10 U.S.C. 1408, for the purposes of providing information on how their payment was calculated to include what items were deducted from the member's gross pay and the dollar amount for each deduction.

To Federal, state, or local child support agencies, in response to their written requests for information regarding the gross and disposable pay of civilian employees, for purposes of assisting the agencies in the discharge of their responsibilities under Federal and State law.

The DoD Blanket Routine Uses set forth at the beginning of the Army's compilation of systems of records notices apply to this system. The complete list of DoD blanket routine uses can be found online at: http://dpcld.defense.gov/Privacy/SORNsIndex/BlanketRoutineUses.aspx.”

Policies and practices for storing, retrieving, accessing, retaining, and disposing of records in the system:

Storage:

Delete entry and replace with “Paper records and electronic storage media.”

Retrievability:

Delete entry and replace with “By name, SSN and/or ITIN.”

Safeguards:

Delete entry and replace with “Records are maintained in a controlled facility. Physical entry is restricted by the use of locks, guards, and is accessible only to authorized personnel. Access to records is limited to person(s) with an official “need to know” who are responsible for servicing the record in performance of their official duties. Persons are properly screened and cleared for access. Access to electronic records is role-based and further restricted by passwords, which are changed periodically.”

Retention and disposal:

Delete entry and replace with “Non-selected applicant records are retained for up to six months and then destroyed by shredding or deletion from the applicant database; records for applicants hired become part of the person's Official Personnel Folder. Upon the separation of the employee, the file will be transferred to the National Personnel Records Center (NPRC) in Valmeyer, IL and maintained for an additional 65 years.”

* * * * *

Notification procedure:

Delete entry and replace with “Individuals seeking to determine whether information about themselves is contained in this system should address written inquiries to the Director/Chief Executive Officer, Army and Air Force Exchange Service, 3911 S. Walton Walker Boulevard, Dallas, TX 75236-1598.

Individuals should provide full name, SSN, current address and telephone number and signature. If terminated, also include date of birth, date of separation, and last employing location and sufficient details to permit locating the record.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature).' ”

Record access procedures:

Delete entry and replace with “Individuals seeking access to information about themselves contained in this system should address written inquiries to the Director/Chief Executive Officer, Attn: FOIA/Privacy Manager, Army and Air Force Exchange Service, 3911 S. Walton Walker Boulevard, Dallas, TX 75236-1598.

Individuals should provide full name, SSN, current address and telephone number and signature. If terminated, also include date of birth, date of separation, and last employing location.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature).' ”

Contesting record procedures:

Delete entry and replace with “The Army's rules for accessing records and for contesting contents and appealing initial agency determinations are contained in 32 CFR part 505, Army Privacy Program or may be obtained from the system manager.”

Record source categories:

Delete entry and replace with “From the employee, his/her supervisor, educational institutions, previous employers, law enforcement agencies, court orders and medical authorities.”

* * * * *

[FR Doc. 2016-14371 Filed 6-16-16; 8:45 am]

BILLING CODE 5001-06-P